DEPARTMENT OF TRANSPORTATION

Federal Aviation Administration

14 CFR Part 73

[Docket No. FAA-2023-1972; Airspace Docket No. 22-AGL-39]

RIN 2120-AA66

Modification of Restricted Areas R-4201A and R-4201B; Camp Grayling, MI

AGENCY: Federal Aviation Administration (FAA), DOT.

ACTION: Final rule.

SUMMARY: This action modifies the designated altitudes of restricted area R-4201B, Camp Grayling, MI, by raising the restricted area ceiling from 9,000 feet mean sea level (MSL) to 23,000 feet MSL to match the ceiling of the adjacent restricted area R-4201A, Camp Grayling, MI. Additionally, this action adds a “tie-in” boundary point in the R-4201A boundaries description to ensure a shared R-4201A and R-4201B boundary. Lastly, this action makes minor administrative changes to the R-4201B time of designation information and the R-4201A and R-4201B using agency information to standardize the format of the information provided describing these restricted areas.

DATES: Effective date 0901 UTC, September 5, 2024.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in title 49 of the United States Code. Subtitle I, section 106 describes the authority of the FAA Administrator. Subtitle VII, Aviation Programs, describes in more detail the scope of the agency's authority. This rulemaking is promulgated under the authority described in subtitle VII, part A, subpart I, section 40103. Under that section, the FAA is charged with prescribing regulations to assign the use of the airspace necessary to ensure the safety of aircraft and the efficient use of airspace. This regulation is within the scope of that authority as it would modify the restricted area airspace at Camp Grayling, MI, to enhance aviation safety and accommodate essential U.S. Army training requirements.

History

The FAA published a NPRM for Docket No. FAA-2023-1972 in the Federal Register (88 FR 70915; October 13, 2023), proposing to raise the designated altitude ceiling of restricted area R-4201B, Camp Grayling, MI, from 9,000 feet MSL to 23,000 feet MSL, adding a “tie-in” boundary point in the R-4201A boundaries description to ensure a shared R-4201A and R-4201B boundary, and making minor administrative changes to the R-4201B time of designation information and the R-4201A and R-4201B using agency information. Interested parties were invited to participate in this rulemaking effort by submitting written comments on the proposal to the FAA. Two comments were received. Both comments supported the proposed restricted area amendment actions.

The Rule

This action amends 14 CFR part 73 by raising the designated altitudes ceiling of restricted area R-4201B, Camp Grayling, MI; adding a “tie-in” boundary point in the R-4201A boundaries description to ensure a shared R-4201A and R-4201B boundary; and making minor administrative changes to the existing R-4201B time of designation and the R-4201A and R-4201B using agency information.

The R-4201B ceiling is raised to 23,000 feet MSL to match the restricted area ceiling with the adjacent R-4201A ceiling and connect the eastern boundaries of the two restricted areas equally with two new MOAs proposed as part of a previously published non-rulemaking proposal to amend the Alpena Combat Readiness Training Center (CRTC) Airspace Complex.

An additional boundary point is added to the existing R-4201A southern boundary to ensure a shared boundary with the northern boundary of R-4201B. The additional boundary point located at latitude 44°47′00″ N, longitude 84°38′00″ W in the R-4201A description matches the geographic coordinates of the northwest corner of R-4201B and does not change the boundaries alignment for either restricted area.

The minor administrative change to the existing R-4201B time of designation does not change when the restricted area is available to be scheduled. Additionally, the administrative changes to the R-4201A and R-4201B using agency information prefaces the existing using agency information with “U.S. Army.” These administrative changes do not affect the scheduling, use, or activities conducted within the restricted areas.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

In accordance with the National Environmental Policy Act (NEPA) (42 U.S.C. 4321 et seq.), the National Guard Bureau (NGB) and the Michigan Air National Guard (MIANG) prepared an Environmental Assessment (EA) and Finding of No Significant Impact (FONSI) for Modification and Addition of Airspace at the Alpena Special Use Airspace (SUA) Complex, dated February 2, 2024. The EA considers the potential consequences to the human and natural environment associated with modification, expansion, and utilization of the Alpena SUA Complex, including the use of restricted areas R-4201A and R-4201B for NGB and MIANG aircraft exercises. The FAA is a cooperating agency for the NGB and MIANG EA since it has jurisdiction by law over the provision and use of the airspace in which the NGB and MIANG actions take place. In accordance with NEPA's implementing regulations at 40 CFR part 1500 and FAA's NEPA implementing regulations in FAA Order 1050.1F, paragraph 8-2, The Adoption of Other Agencies' NEPA Documents, the FAA has adopted the NGB and MIANG EA and published its own FONSI for the establishment and use of the Alpena SUA Complex near Alpena, MI, dated April 17, 2024.

List of Subjects in 14 CFR Part 73

Airspace, Prohibited areas, Restricted areas.

The Amendment

In consideration of the foregoing, the Federal Aviation Administration amends 14 CFR part 73 as follows:

PART 73—SPECIAL USE AIRSPACE

1. The authority citation for 14 CFR part 73 continues to read as follows:

Authority: 49 U.S.C. 106(f), 106(g), 40103, 40113, 40120; E.O. 10854, 24 FR 9565, 3 CFR, 1959-1963 Comp., p. 389.

§ 73.42 Michigan (MI) [Amended]

2. § 73.42 is amended as follows:

R-4201A Camp Grayling, MI [Amended]

Boundaries. Beginning at lat. 44°56′00″ N, long. 084°29′00″ W; to lat. 44°47′00″ N, long. 084°29′00″ W; to lat. 44°47′00″ N, long. 084°38′00″ W; to lat. 44°47′00″ N, long. 084°39′00″ W; to lat. 44°56′00″ N, long. 084°39′00″ W; to the point of beginning.

Designated altitudes. Surface to 23,000 feet MSL.

Time of designation. 0800-1600 local time, Tuesday-Saturday; other times by NOTAM.

Controlling agency. FAA, Minneapolis ARTCC.

Using agency. U.S. Army, Commander, Camp Grayling, Grayling, MI.

R-4201B Camp Grayling, MI [Amended]

Boundaries. Beginning at lat. 44°47′00″ N, long. 084°29′00″ W; to lat. 44°41′00″ N, long. 084°29′00″ W; to lat. 44°41′00″ N, long. 084°40′00″ W; to lat. 44°43′00″ N, long. 084°40′00″ W; to lat. 44°43′00″ N, long. 084°38′00″ W; to lat. 44°47′00″ N, long. 084°38′00″ W; to the point of beginning.

Designated altitudes. Surface to 23,000 feet MSL.

Time of designation. 0000-2359 local time, Saturday-Sunday; other times by NOTAM.

Controlling agency. FAA, Minneapolis ARTCC.

Using agency. U.S. Army, Commander, Camp Grayling, Grayling, MI.

* * * * *

Issued in Washington, DC, on June 12, 2024.
Frank Lias,
Manager, Rules and Regulations Group.

[FR Doc. 2024-13313 Filed 6-17-24; 8:45 am]

BILLING CODE 4910-13-P